DEPARTMENT OF LABOR

Employment and Training Administration

[NAFTA-04180]

Plum Creek Timber, Pablo, MT; Notice of Termination of Investigation

Pursuant to Title V of the North American Free Trade Agreement Implementation Act (P.L. 103-182) concerning transitional adjustment assistance, hereinafter called (NAFTA-TAA), and in accordance with section 250(a), subchapter D, chapter 2, title II, of the Trade Act of 1974, as amended (19 U.S.C. 2273), an investigation was initiated on September 26, 2000 in response to a petition filed on behalf of workers at Plum Creek Timber, Pablo, Montana.

The petitioner requested that the petition for NAFTA-TAA be withdrawn. Consequently, further investigation in this case would serve no purpose, and the investigation has been terminated.

Signed at Washington, DC, this 2nd day of November 2000.
Linda G. Poole,
Certifying Officer, Division of Trade Adjustment Assistance.

[FR Doc. 00-29152 Filed 11-14-00; 8:45 am]

BILLING CODE 4510-30-M